DEPARTMENT OF COMMERCE

National Oceanic and Atmospheric Administration

Notice of Findings Regarding Non-U.S. Commercial Availability of Satellite Imagery With Respect to Israel

ACTION: Notice.

SUMMARY: Consistent with the requirement that commercial remote sensing licensees operate their systems in a manner that protects national security concerns, foreign policy and international obligations, Section 1064, Public Law 104-201, (the 1997 Defense Authorization Act), referred to as the Kyl-Bingaman Amendment, requires that “[a] department or agency of the United States may issue a license for the collection or dissemination by a non-Federal entity of satellite imagery with respect to Israel only if such imagery is no more detailed or precise than satellite imagery of Israel that is available from commercial sources.” Pursuant to this law, the Department of Commerce will make findings as to the level of detail or precision of satellite imagery of Israel available from commercial sources. The Department has found that imagery over Israel is not readily and consistently available in sufficient quantities from non-U.S. sources at under the 2 m Ground Sample Distance (GSD) resolution limit currently set by the Department; therefore, the Department is not changing this resolution limit.

SUPPLEMENTARY INFORMATION: This Notice informs U.S. satellite operators collecting imagery over Israel or with plans to collect imagery over Israel that current restrictions regarding data collection/dissemination of imagery over Israel remain in place with the resolution limit at 2 m GSD. This Notice is consistent with the requirement that the Department of Commerce review non-U.S. commercial availability of imagery over Israel and any input from licensees or from the general public and publish findings of this review in the Federal Register.

To determine what imagery is “available from commercial sources,” the Department looks to what “level of imagery resolution [is] readily and consistently available in sufficient quantities from non-U.S. sources.” Licensing of Private Land Remote-Sensing Space Systems, 71 FR 24474, 24479 (Apr. 25, 2006). After a recent investigation and analysis, the Department determined that imagery over Israel is not readily and consistently available in sufficient quantities from non-U.S. sources at under 2 m GSD to consider sub-2 m imagery “commercially available.”

There are non-U.S. commercial sources that are capturing imagery at lower than the 2 m resolution limit, but very little of this imagery is available for sale. Further, the imagery is not easily accessible enough to be readily available. A customer must apply to acquire the imagery. Even if their application is granted and the customer is able to buy imagery at under 2 m, the license terms of the sale often restrict the customer from further disseminating the imagery. Therefore, the Department has determined that commercial imagery is not readily or consistently available from non-U.S. sources in sufficient quantities to be considered commercially available.

The Department of Commerce may re-evaluate this finding in the future as additional information is made available.

FOR FURTHER INFORMATION CONTACT: Tahara Dawkins, Commercial Remote Sensing Regulatory Affairs Office, NOAA Satellite and Information Services, 1335 East-West Highway, Suite G-101, Silver Spring, Maryland 20910; telephone (301) 713-3385, email tahara.dawkins@noaa.gov.

Tahara Dawkins,
Director, Commercial Remote Sensing Regulatory Affairs.

[FR Doc. 2018-22366 Filed 10-12-18; 8:45 am]

BILLING CODE 3510-HR-P